DEPARTMENT OF COMMERCE

National Oceanic and Atmospheric Administration

50 CFR Part 223

RIN 0648-XZ59

Endangered and Threatened Species; Extension of Public Comment Period on Proposed Threatened Status for Subspecies of the Ringed Seal

AGENCY: National Marine Fisheries Service (NMFS), National Oceanic and Atmospheric Administration (NOAA), Commerce.

ACTION: Proposed rule; extension of public comment period.

SUMMARY: We, NMFS, are extending the date by which public comments are due concerning the proposed rule to list the Arctic (Phoca hispida hispida), Okhotsk (Phoca hispida ochotensis), Baltic (Phoca hispida botnica), and Ladoga (Phoca hispida ladogensis) subspecies of the ringed seal as threatened under the Endangered Species Act of 1973, as amended (ESA). On December 10, 2010, we published a proposed rule to list these subspecies as threatened. As part of that proposal, we announced a public comment period to end on February 8, 2011. Today we extend the public comment period to March 25, 2011.

DATES: The deadline for receipt of comments on the proposed rule published on December 10, 2010 (75 FR 77476), is extended from February 8, 2011, to March 25, 2011.

ADDRESSES: Send comments to Kaja Brix, Assistant Regional Administrator, Protected Resources Division, Alaska Region, NMFS, Attn: Ellen Sebastian. You may submit comments, identified by RIN 0648-XZ59, by any one of the following methods:

• Electronic Submissions: Submit all electronic public comments via the Federal eRulemaking Portal http://www.regulations.gov.

• Mail: P.O. Box 21668, Juneau, AK 99802.

• Fax: (907) 586-7557.

• Hand delivery to the Federal Building: 709 West 9th Street, Room 420A, Juneau, AK.

All comments received are a part of the public record. No comments will be posted to http://www.regulations.gov for public viewing until after the comment period has closed. Comments will generally be posted without change. All Personal Identifying Information (for example, name, address, etc.) voluntarily submitted by the commenter may be publicly accessible. Do not submit Confidential Business Information or otherwise sensitive or protected information.

We will accept anonymous comments (enter N/A in the required fields, if you wish to remain anonymous). You may submit attachments to electronic comments in Microsoft Word, Excel, WordPerfect, or Adobe PDF file formats only.

The proposed rule, status review report, and other materials relating to this proposal can be found on the Alaska Region Web site at: http://alaskafisheries.noaa.gov/.

FOR FURTHER INFORMATION CONTACT: Tamara Olson, NMFS Alaska Region, (907) 271-5006; Kaja Brix, NMFS Alaska Region, (907) 586-7235; or Marta Nammack, Office of Protected Resources, Silver Spring, MD (301) 713-1401.

SUPPLEMENTARY INFORMATION:

Background

On December 10, 2010 (75 FR 77476), we published a proposed rule to list the Arctic, Okhotsk, Baltic, and Ladoga subspecies of the ringed seal as threatened under the ESA. Based on the status of these subspecies, we also proposed protective regulations pursuant to section 4(d) of the ESA for these subspecies to include all of the prohibitions in section 9(a)(1) of the ESA.

We received requests to extend the public comment period on the proposed rule due to partial overlap of the comment period with the holiday season, and also because the comment period is scheduled concurrently with the comment period for the proposed listing of the Beringia and Okhotsk Distinct Population Segments (DPSs) of the bearded seal (Erignathus barbatus) (75 FR 77496). Three requesters asked for an additional 30 days; and one requester asked for an additional 60 days. We have considered these requests and conclude that a 45-day extension should allow sufficient time for responders to submit comments without significantly delaying this rulemaking process. We are therefore extending the public comment period, which was scheduled to end February 8, 2011, to March 25, 2011, to allow additional time for public comment. A 45-day extension of the public comment period on the proposed rule to list DPSs of the bearded seal is published concurrently as a separate notice.

Authority: 16 U.S.C. 1533 et seq.

Dated: January 31, 2011.
James H. Lecky,
Director, Office of Protected Resources, National Marine Fisheries Service.

[FR Doc. 2011-2752 Filed 2-7-11; 8:45 am]

BILLING CODE 3510-22-P